DEPARTMENT OF DEFENSE

Department of the Army; Corps of Engineers

Intent To Prepare a Draft Environmental Impact Statement, Lower Snake River Reservoirs Navigation Maintenance, in the States of Washington, and Idaho

AGENCY: Department of the Army, U.S. Army Corps of Engineers, DoD.

ACTION: Notice of intent.

SUMMARY: The U.S. Army Corps of Engineers (Corps) intends to prepare an Environmental Impact Statement (EIS) for performing routine maintenance of the Federal navigation channel and certain public port facilities on the lower Snake and Clearwater Rivers in Washington and Idaho. The EIS will evaluate the actions the Corps could take to maintain the authorized navigation channel and port facilities in the short-term and will identify the preferred alternative.

The Environmental Protection Agency (EPA), Region 10, will be a cooperating agency for this EIS. The Corps will work with EPA during development of the EIS to consider and incorporate, as appropriate, the policies and procedures currently evolving for the Northwest Regional Dredging Team (RDT), as referred to in the April 26, 2002, policy letter jointly signed by Brigadier General David A. Tastabend, Corps of Engineers, Northwestern Division Commander, and L. John Iani, EPA Region 10 Administrator.

DATES: Submit comments by January 18, 2005.

FOR FURTHER INFORMATION CONTACT: Mr. Jack Sands, Project Manager, Walla Walla District, Corps of Engineers, CENWW-PM-PPM, 201 North Third Avenue, Walla Walla, WA 99362, phone (509) 527-7287, or Ms. Sandra Simmons, NEPA Coordinator, Walla Walla District, Corps of Engineers, CENWW-PD-EC, 201 North Third Avenue, Walla Walla, WA 99362, phone (509) 527-7265.

SUPPLEMENTARY INFORMATION: The U.S. Army Corps of Engineers, Walla Walla District (Corps) has the responsibility to operate and maintain the congressionally authorized Federal navigation channel in the lower Snake River from McNary reservoir on the mid-Columbia River up the Snake River to Lewiston, Idaho at the confluence of the Snake and Clearwater Rivers. The Corps is authorized by Congress to maintain a channel 250 feet wide and 14 feet deep as measured at minimum regulated flows. Historically the Corps has routinely dredged accumulated sediments from the navigation channel to maintain its operational efficiency. The Corps has not performed maintenance dredging in the channel since the winter of 1998-1999.

Presently sediment has accumulated in the Federal navigation channel to the point that the channel is less than 14 feet deep at minimum pool at several locations. Sediment has also accumulated in port berthing facilities in the Lewiston-Clarkston area, reducing the water depth at those facilities to less than 14 feet. The shallow water depths in the Federal channel and port facilities are interfering with commercial navigation and creating a potentially hazardous situation. Barge companies and commercial vessels are having difficulty accessing port facilities and navigating the federal channel due to shallow conditions. In response to these conditions they have made costly operational changes. Additional sediment accumulation could render these operational changes ineffective and increase the potential for safety hazards and additional economic impact.

The Corps recognizes the need to restore the authorized depth of the navigation channel and port facilities, and that additional sediment is likely to accumulate with each successive spring runoff. Therefore, the Corps proposes to take action at the first opportunity following the spring 2005 runoff to address the accumulated sediment. The local ports will fund any actions the Corps takes within the port facilities. The Corps will consider both dredging and non-dredging measures, either separately or in combination. Measures identified to date include no action, sediment reduction, reservoir drawdown/flushing, dredging with traditional protocols, and dredging with beneficial use of dredged material.

At this time, the Corps does not plan to conduct public scoping meetings for this EIS. However, affected Federal, state, and local agencies; Indian tribess; and other interested organizations and individuals are invited to provide input to the Corps on the scope of this EIS. To ensure consideration, input on the scope should be provided to the Corps by comment date (see DATES). Additional opportunities for public input on the EIS will be provided during the normal review periods for the draft and final EIS.

The draft EIS is currently scheduled to be available for public review in early 2005.

Randy L. Glaeser,
LTC, EN, Commanding.

[FR Doc. 04-27573 Filed 12-15-04; 8:45 am]

BILLING CODE 3710-GC-M